DEPARTMENT OF HEALTH AND HUMAN SERVICES

Administration for Children and Families

[Office of Management and Budget #: 0970-0320]

Submission for Office of Management and Budget Review; OCSE-75 Tribal Child Support Enforcement Annual Data Report

AGENCY: Office of Child Support Enforcement, Administration for Children and Families, U.S. Department of Health and Human Services.

ACTION: Request for public comments.

SUMMARY: The Office of Child Support Enforcement (OCSE), Administration for Children and Families (ACF), U.S. Department of Health and Human Services, is requesting a 3-year extension of the form OCSE-75—Tribal Child Support Enforcement Annual Data Report (Office of Management and Budget (OMB) #0970-0320, expiration May 31, 2025). We are requesting minor changes to this form.

DATES: Comments due June 26, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The data collected by form OCSE-75 are used to prepare the OCSE preliminary and annual data reports. In addition, tribes administering OCSE programs under Title IV-D of the Social Security Act are required to report program status and accomplishments in an annual narrative report as part of the OCSE-75 report and submit it annually. The only changes to this report include updating an email address.

Respondents: Tribal Child Support Services Organizations or the Department/Agency/Bureau responsible for Child Support Enforcement in each tribe.

Annual Burden Estimates
Instrument | Total number of respondents | Annual number of responses per respondent | Average burden hours per response | Annual burden hours
OCSE-75 | 63 | 1 | 40 | 2,520

Authority: Title IV-D of the Social Security Act as required by CFR 45 309.170(b).

Mary C. Jones,
ACF/OPRE Certifying Officer.

[FR Doc. 2025-09369 Filed 5-23-25; 8:45 am]

BILLING CODE 4184-41-P